DEPARTMENT OF HOMELAND SECURITY

Transportation Security Administration

New Agency Information Collection Activity Under OMB Review: TSA Pre✓™ Application Program

AGENCY: Transportation Security Administration, DHS.

ACTION: 30-day Notice.

SUMMARY: This notice announces that the Transportation Security Administration (TSA) has forwarded the new Information Collection Request (ICR) abstracted below to the Office of Management and Budget (OMB) for review and approval under the Paperwork Reduction Act (PRA). The ICR describes the nature of the information collection and its expected burden. TSA published a Federal Register notice, with a 60-day comment period soliciting comments, of the following collection of information on July 23, 2013 (78 FR 44140). The collection involves the submission of biographic and biometric information by individuals seeking to enroll in the TSA Pre✓™ Application Program.

DATES: Send your comments by October 28, 2013. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Pre✓™ Application Program.

Type of Request: New collection.

OMB Control Number: Not yet assigned.

Form(s): NA.

Affected Public: Air Travelers.

Abstract: The Transportation Security Administration (TSA) is implementing the TSA Pre✓™ Application Program ¹ pursuant to its authority under sec. 109(a)(3) of the Aviation and Transportation Security Act (ATSA), Public Law 107-71 (115 Stat. 597, 613, Nov. 19, 2001, codified at 49 U.S.C. 114 note), as well as the DHS Appropriations Act, 2006, Public Law 109-90 (119 Stat. 2064, 2088-89, Oct. 18, 2005), which authorizes TSA to establish and collect a fee for any registered traveler program by publication of a notice in the Federal Register. TSA will publish a fee notice separately in the Federal Register.

¹ In TSA's notice of intent to request approval from OMB of a new public collection of information published on July 23, 2013 (78 FR 44140), the program was referred to as the “TSA Pre✓™ Trusted Traveler Program.” In this notice, the program is called the “TSA Pre✓™ Application Program.”

Under the TSA Pre✓™ Application Program, individuals may submit information to TSA, which in turn will use the information to conduct a security threat assessment of of law enforcement, immigration, and intelligence databases, including a fingerprint-based criminal history records check conducted through the Federal Bureau of Investigation (FBI). The results will be used by TSA to decide if an individual poses a low risk to transportation or national security. Approved applicants will be issued a Known Traveler Number which they will use when making travel reservations. Airline passengers who submit Known Traveler Numbers when making airline reservations are eligible for expedited screening on flights originating from U.S. airports with TSA Pre✓™ lanes.²

² Passengers who are eligible for expedited screening through a dedicated TSA Pre✓™ lane typically will receive more limited physical screening, e.g., will be able to leave on their shoes, light outerwear, and belt, to keep their laptop in its case, and to keep their 3-1-1 compliant liquids/gels bag in a carry-on. For airports with TSA Pre✓™ lanes, see http://www.tsa.gov/tsa-precheck/tsa-precheck-participating-airports.

TSA seeks to establish enrollment sites and implement a mobile enrollment capability to support the TSA Pre✓™ Application Program. Those seeking TSA Pre✓™ expedited screening via the TSA Pre✓™ Application Program will have the option to apply online or in-person by submitting biographic information. Applicants then will submit biometric data (e.g., fingerprints) in-person at an enrollment center and pay the fee to TSA's contracted vendor. TSA also invites all TSA Pre✓™ applicants to complete an optional survey to gather information on the applicants' overall customer satisfaction with the service received at the enrollment center. The optional survey will be administered at the end of the in-person enrollment service.

Eligibility for TSA Pre✓™ is within the sole discretion of TSA, which will notify applicants who are denied eligibility in writing of the reasons for the denial. If initially deemed ineligible, applicants will have an opportunity to correct cases of misidentification or inaccurate criminal or immigration records. Consistent with 28 CFR 50.12 in cases involving criminal records, and before making a final eligibility decision, TSA will advise the applicant that the FBI criminal record discloses information that would disqualify him or her from the TSA Pre✓™ Application Program.

Within 60 days after being advised that the criminal record received from the FBI discloses a disqualifying criminal offense, the applicant must notify TSA in writing of his or her intent to correct any information he or she believes to be inaccurate. The applicant must provide a certified revised record, or the appropriate court must forward a certified true copy of the information, prior to TSA approving eligibility of the applicant for TSA Pre✓™. With respect to citizenship and/or immigration records, within 60 days after being advised that the citizenship or immigration records indicate that the applicant is ineligible for TSA Pre✓™, the applicant must notify TSA in writing of his or her intent to correct any information believed to be inaccurate. TSA will review any information submitted and make a final decision. If neither notification nor a corrected record is received by TSA, TSA may make a final determination to deny eligibility. Individuals who TSA determines are ineligible for the TSA Pre✓™ Application Program will continue to be screened at airport security checkpoints according to TSA standard screening protocols.

TSA Pre✓™ will enhance aviation security by permitting TSA to better focus its limited security resources on passengers who are more likely to pose a threat to civil aviation, while also facilitating and improving the commercial aviation travel experience for the public. Travelers who choose not to enroll in this initiative are not subject to any limitations on their travel because of their choice; they will be processed through normal TSA screening before entering the sterile areas of airports. TSA also retains the authority to perform random screening on TSA Pre✓™ members and any other travelers authorized for expedited physical screening.

Average Annual Number of Respondents: 392,876.

Estimated Annual Burden Hours: An estimated 248,841 hours annually based on a five-year projection.

Estimated Cost Burden: $85.00 per person enrollment fee good for five years.

Dated: September 20, 2013.
Joanna Johnson,
TSA Paperwork Reduction Act Officer, Office of Information Technology.

[FR Doc. 2013-23398 Filed 9-25-13; 8:45 am]

BILLING CODE 9110-05-P